DEPARTMENT OF THE INTERIOR

THE UTAH RECLAMATION MITIGATION AND CONSERVATION COMMISSION

Central Utah Project Completion Act

AGENCY: Department of the Interior, Office of the Assistant Secretary—Water and Science; Utah Reclamation Mitigation and Conservation Commission; and the Central Utah Water Conservancy District.

ACTION: Notice of intent to prepare an Environmental Impact Statement and Announcement of Public Scoping for the proposed Provo River Delta Restoration, Utah County, Utah.

SUMMARY: Pursuant to Section 102(2)(c) of the National Environmental Policy Act of 1969, as amended, the Council on Environmental Quality Regulations at 40 CFR 1501.7, and authorities under the Endangered Species Act (15 U.S.C. 1536, et seq.), the Department of the Interior (Interior), Utah Reclamation Mitigation and Conservation Commission (Mitigation Commission), and the Central Utah Water Conservancy District (District), as Joint Lead Agencies, will prepare an Environmental Impact Statement (EIS), with public involvement, for the Provo River Delta Restoration Project. The restoration project is a recovery action within the approved species recovery plan.

DATES: Date and location for the public Scoping meeting will be announced locally. Public comments on Scoping issues will be accepted at the meeting, or in writing on or before April 30, 2010.

ADDRESSES: Send written comments to the Utah Reclamation Mitigation and Conservation Commission, 230 South 500 East, Suite 230, Salt Lake City, UT 84102-2045; or by e-mail to urmcc@usbr.gov.

FOR FURTHER INFORMATION: Additional information may be obtained by contacting Mr. Mark Holden at (801) 524-3146, or by e-mail at urmcc@usbr.gov.

SUPPLEMENTARY INFORMATION: The Record of Decision for the Diamond Fork System Final Supplement to the Diamond Fork Power System Final Environmental Impact Statement (FEIS 99-25) commits the Joint Lead Agencies to “* * * participate in the development of a Recovery Implementation Program for June sucker.” Moreover, “* * * [a]ny future development of the Bonneville Unit of CUP [Central Utah Project] will be contingent on the RIP [Recovery Implementation Program] making `sufficient progress' towards recovery of June sucker.” The June Sucker Recovery Implementation Program (JSRIP) was established in 2002, and the Joint Lead Agencies are participants. The goals of the JSRIP are to recover June sucker so that it no longer requires protection under the Endangered Species Act; and allow continued operation of existing water facilities and future development of water resources for human uses within the Utah Lake basin in Utah.

The June sucker (Chasmistes liorus) exists naturally only in Utah Lake and spawns naturally only in the lower Provo River, a Utah Lake tributary. Monitoring indicates young June sucker hatching in the lower Provo River do not survive to the adult stage. It is believed that first-year fish do not survive due to habitat inadequacies in the lower Provo River and its interface with Utah Lake related to flow, food supply and shelter. A compounding factor is likely predation by nonnative fishes. Dredging and channelization for flood control has eliminated the shallow, warm, complex wetland habitat at the mouth of the Provo River where it entered Utah Lake. The conceptual restoration is to relocate the lower Provo River onto public and acquired private fee lands, and connect the river to a former bay of Utah Lake that will be restored to provide habitat conditions necessary for survival and recruitment of June sucker.

A Draft Purpose and Need statement for the project will be presented and discussed at the Scoping Meeting as follows:

Need

• Functional habitat conditions in the lower Provo River and its interface with Utah Lake that are suitable for spawning, hatching, larval transport, survival, rearing and recruitment of June sucker to the adult stage.

Purposes

• Preserve and improve fish, wildlife, riparian and wetlands habitats at lower Provo River and its interface with Utah Lake;

• Expedite recovery of the endangered June sucker by re-establishing essential June sucker habitat through restoration of the lower Provo River ecosystem at the Provo River-Utah Lake interface to a more natural condition (a delta);

• Provide recreational improvements and opportunities associated with the habitat restoration project; and

• Provide for continued development of the Central Utah Project (CUP).

Dated: March 9, 2010.
Reed R. Murray,
Program Director, Central Utah Project Completion Act, Department of the Interior.
Michael C. Weland,
Executive Director, Utah Reclamation Mitigation and Conservation Commission.

[FR Doc. 2010-5630 Filed 3-15-10; 8:45 am]

BILLING CODE 4310-RK-P